DEPARTMENT OF HEALTH AND HUMAN SERVICES

Centers for Disease Control and Prevention

Disease, Disability, and Injury Prevention and Control Technical Evaluation Panel (TEP): Pilot Follow-Up of Former Workers at Vermiculite Processing Sites in the United States, Contract Solicitation Number #0000HTB8-2005-19635

In accordance with Section 10(a)(2) of the Federal Advisory Committee Act (Pub. L. 92-463), the Centers for Disease Control and Prevention (CDC) announces the following meeting:

Name: Disease, Disability, and Injury Prevention and Control Technical Evaluation Panel (TEP): Pilot Follow-Up of Former Workers at Vermiculite Processing Sites in the United States, Contract Solicitation Number #0000HTB8-2005-19635.

Times and Dates: 11:30 a.m.-12 p.m., July 7, 2005 (Open); 12 p.m.-3 p.m., July 7, 2005 (Closed).

Place: Teleconference (404) 498-0003.

Status: The meeting will be closed to the public in accordance with provisions set forth in section 552b(c) (4) and (6), Title 5 U.S.C., and the Determination of the Director, Management Analysis and Services Office, CDC, pursuant to Public Law 92-463.

Matters to be Discussed: The meeting will include the review, discussion, and evaluation of applications received in response to: Pilot Follow-Up of Former Workers at Vermiculite Processing Sites in the United States, Contract Solicitation Number #0000HTB8-2005-19635.

Contact Person for More Information: Mildred Williams-Johnson, Ph.D., D.A.B.T., Health Science Administrator, National Center for Environmental Health, CDC, 1600 Clifton Road NE., Mailstop E28, Atlanta, GA 30333, Telephone (404) 498-0639.

The Director, Management Analysis and Services Office, has been delegated the authority to sign Federal Register notices pertaining to announcements of meetings and other committee management activities, for both CDC and the Agency for Toxic Substances and Disease Registry.

Dated: June 16, 2005.
Alvin Hall,
Director, Management Analysis and Services Office, Centers for Disease Control and Prevention.

[FR Doc. 05-12296 Filed 6-21-05; 8:45 am]

BILLING CODE 4163-18-P